DEPARTMENT OF ENERGY

Federal Energy Regulatory Commission

[Docket No. RP04-263-002]

Algonquin Gas Transmission Company; Notice of Compliance Filing

June 24, 2004.

Take notice that on June 18, 2004, Algonquin Gas Transmission Company (Algonquin) tendered for filing as part of its FERC Gas Tariff, Fourth Revised Volume No. 1, the tariff sheets listed in Appendix A of the filing, to be effective as of October 10, 2003.

Algonquin states that the purpose of this filing is to comply with the Commission's order issued on May 19, 2004 in Docket Nos. RP04-24 and RP04-263. Specifically, by the filing, Algonquin states that it proposes to implement revised tariff sheets that reflect the rates for transportation service rendered by Algonquin on the Manchester Street and Brayton Point facilities during the period from October 10, 2003 to February 29, 2004.

Algonquin states that copies of its filing have been served all parties on the Commission's official service list in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1461 Filed 6-30-04; 8:45 am]

BILLING CODE 6717-01-P